DEPARTMENT OF HEALTH AND HUMAN SERVICES

National Institutes of Health

Implementation of the Updated American Veterinary Medical Association Guidelines for the Euthanasia of Animals: 2020 Edition

AGENCY: National Institutes of Health, HHS.

ACTION: Notice.

SUMMARY: The National Institutes of Health (NIH) is providing guidance to Public Health Service (PHS) awardee institutions on implementation of the American Veterinary Medical Association (AVMA) Guidelines for the Euthanasia of Animals: 2020 Edition (“Guidelines”). The NIH is seeking input from the public on any concerns they may have regarding the updated Guidelines.

DATES: Public concerns regarding the updated AVMA Guidelines for the Euthanasia of Animals: 2020 Edition must be submitted electronically at https://grants.nih.gov/grants/rfi/rfi.cfm?ID=105 by 11:59:59 p.m. EDT on April 29, 2020, in order to be considered.

FOR FURTHER INFORMATION CONTACT: Patricia Brown, Director, Office of Laboratory Animal Welfare, Office of Extramural Research, National Institutes of Health, 6700B Rockledge Drive, Suite 2500, Bethesda, MD 20892-6910, phone: 301-496-7163, email: olaw@od.nih.gov.

SUPPLEMENTARY INFORMATION:

I. Background

The NIH Office of Laboratory Animal Welfare (OLAW) oversees PHS-funded animal activities by the authority of the Health Research Extension Act of 1985 and the PHS Policy on Humane Care and Use of Laboratory Animals (Policy). The PHS Policy, IV.C.1.g., requires that Institutional Animal Care and Use Committees (IACUCs) reviewing PHS-conducted or supported research projects, determine if methods of euthanasia used in projects will be consistent with the recommendations of the AVMA Panel on Euthanasia, unless a deviation is justified for scientific reasons in writing by the investigator.

PHS-Assured institutions are encouraged to begin using the 2020 Guidelines as soon as possible when reviewing research projects, and full implementation is expected after October 1, 2020. Previously approved projects undergoing continuing review according to PHS Policy, IV.C.5., which requires a complete review at least once every 3 years, must be reviewed using the 2020 Guidelines after October 1, 2020.

II. Electronic Access

The AVMA has posted the AVMA Guidelines for the Euthanasia of Animals: 2020 Edition at https://www.avma.org/KB/Policies/Documents/euthanasia.pdf (PDF).

Dated: February 18, 2020.
Francis S. Collins,
Director, National Institutes of Health.

[FR Doc. 2020-03607 Filed 2-21-20; 8:45 am]

BILLING CODE 4140-01-P